DEPARTMENT OF THE INTERIOR

Bureau of Land Management

[MT-079-01-1020-AC]

Resource Advisory Council Meeting, Dillon, MT

AGENCY: Bureau of Land Management, Interior.

ACTION: Notice of meeting.

SUMMARY: The Western Montana Resource Advisory Council will convene on May 31, 2001 at 12 Noon at the U.S. Forest Service Sheridan Work Center, 103 North Main, Sheridan, Montana., A field tour of the Garden Creek allotment will begin from there and end at Dillon, Montana. This area of the Ruby Mountains has recently been assessed for compliance with Standards for Rangeland Health. The tour is designed to look at areas that are not currently meeting the standards, and discussions on the planning process for making changes in the current grazing management to initiate progress in meeting the standard will be held on the allotment. Some watershed restoration projects in the Stone Creek watershed will also be visited on the way to Dillon.

The meeting will continue at the Dillon Field Office, 1005 Selway Drive, Dillon, Montana at 8 a.m. on June 1, 2001. A briefing on the status of the Dillon Resource Management Plan will be given. Public comment will be accepted at 9 a.m.

Following the public comment session, a field trip to visit an area that has been assessed for compliance with the Standards for Rangeland Health and found to be meeting the standards will be held. This will allow the RAC members to see how the Standards for Rangeland Health are being assessed on the ground. The location for this tour will be determined later based on weather conditions.

The meeting is open to the public and written comments can be given to the Council. Oral comments may be presented to the Council on June 1 at 9:00 a.m. The time allotted for oral comment may be limited, depending on the number of persons wishing to be heard. Individuals who plan to attend and need further information about the meeting, or who need special assistance, such as sign language or other reasonable accommodations, should contact Jean Nelson-Dean, Resource Advisory Coordinator, at the Butte Field Office, 106 North Parkmont, Butte, Montana 59702-3388, telephone 406-533-7617.

FOR FURTHER INFORMATION CONTACT: Scott Powers, Dillon Field Manager, 406-683-8023 or Jean Nelson-Dean at the above address and telephone number.

Dated: April 27, 2001.
Dave Pacioretty,
Acting Field Manager.

[FR Doc. 01-12510 Filed 5-17-01; 8:45 am]

BILLING CODE 4310-$$-M